DEPARTMENT OF THE INTERIOR

Fish and Wildlife Service

Final Comprehensive Conservation Plan for Sherburne National Wildlife Refuge, Sherburne County, Minnesota

AGENCY: Fish and Wildlife Service, Interior.

ACTION: Notice of availability.

SUMMARY: The U.S. Fish and Wildlife Service announces that the Final Comprehensive Conservation Plan (CCP) is available for Sherburne National Wildlife Refuge, Minnesota.

The CCP was prepared pursuant to the National Wildlife Refuge System Administration Act of 1966, as amended by the National Wildlife Refuge System Improvement Act of 1997, and the National Environmental Policy Act of 1969. Goals and objectives in the CCP describe how the agency intends to manage the refuge over the next 15 years.

ADDRESSES: Copies of the Final CCP are available on compact disk or hard copy. You may access and download a copy via the planning Web site at http://www.fws.gov/midwest/planning/sherburne/index.html or you may obtain a copy by writing to the following address: U.S. Fish and Wildlife Service, Sherburne National Wildlife Refuge, 17076 293rd Ave., Zimmerman, MN 55398.

FOR FURTHER INFORMATION CONTACT: Anne Sittauer, at (763) 389-3323.

SUPPLEMENTARY INFORMATION: The 30,575-acre Sherburne National Wildlife is located in central Minnesota at the juncture of the northern boreal forest, the eastern deciduous forest, and the tallgrass prairie. It was established in 1965 under the general authority of the Migratory Bird Conservation Act of 1929 (16 U.S.C. 715d). The Refuge attracts over 230 species of birds each year to its diverse habitats. Of these, over 120 are known to nest in the area. The Refuge wetlands provide habitat for about 30 nesting pairs of Greater Sandhill Cranes and serve as a staging area for thousands of cranes during fall migration. During fall and spring migration, the Refuge wetlands also support thousands of waterfowl.

The National Wildlife Refuge System Administration Act of 1966, as amended by the National Wildlife Refuge System Improvement Act of 1997 (16 U.S.C. 668dd-668ee et seq.), requires the Service to develop a CCP for each national wildlife refuge. The purpose in developing CCPs is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Management of the refuge for the next 15 years will focus on: (1) Changes in the water impoundment system and upland management to create a diversity of wetland types and historic upland plant communities; (2) increased opportunities for all types of wildlife-dependent recreation; and (3) outreach, private lands, and partnership activities that will emphasize natural processes, including native habitat restoration and conservation, to form ecologically functioning connections to and from the Refuge.

Dated: November 23, 2005.
Robyn Thorson,
Regional Director, U.S. Fish and Wildlife Service, Ft. Snelling, Minnesota.

[FR Doc. E6-1947 Filed 2-10-06; 8:45 am]

BILLING CODE 4310-55-P